DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, November 08, 2024, 10:00 a.m. to November 08, 2024, 05:00 p.m., National Institutes of Health, NIDDK, Democracy II, 6707 Democracy Boulevard, Bethesda, MD 20892 which was published in the Federal Register on September 24, 2024, 89 FR 77875.

The following FRN is being amended to change the meeting date from November 8, 2024, to November 20, 2024. The meeting is closed to the public.

Dated: September 30, 2024.
Miguelina Perez,
Program Analyst, Office of Federal Advisory Committee Policy.

[FR Doc. 2024-22881 Filed 10-3-24; 8:45 am]

BILLING CODE 4140-01-P